INTERNATIONAL TRADE COMMISSION

[Investigation Nos. 701-TA-489 and 731-TA-1201 (Review)]

Drawn Stainless Steel Sinks From China; Determination

On the basis of the record ¹ developed in the subject five-year reviews, the United States International Trade Commission (“Commission”) determines, pursuant to the Tariff Act of 1930 (“the Act”), that revocation of the countervailing and antidumping duty orders on drawn stainless steel sinks from China would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on March 1, 2018 (83 FR 8887) and determined on June 4, 2018 that it would conduct expedited reviews (83 FR 30193, June 27, 2018).

The Commission made these determinations pursuant to section 751(c) of the Act (19 U.S.C. 1675(c)). It completed and filed its determinations in these reviews on August 14, 2018. The views of the Commission are contained in USITC Publication 4810 (August 2018), entitled Drawn Stainless Steel Sinks from China: Investigation Nos. 701-TA-489 and 731-TA-1201 (Review).

By order of the Commission.
Issued: August 15, 2018.
Lisa Barton,
Secretary to the Commission.

[FR Doc. 2018-17868 Filed 8-17-18; 8:45 am]

BILLING CODE 7020-02-P